DEPARTMENT OF DEFENSE

Department of the Air Force

Change of Names Given for the Performance Review Board for the Department of the Air Force.

AGENCY: Department of the Air Force, DOD.

ACTION: Notice.

SUMMARY: Notice is given to replace a member of the 2012 Performance Review Board for the Department of the Air Force.

DATES: Effective Date: November 6, 2012.

SUPPLEMENTARY INFORMATION: Pursuant to 5 U.S.C. 4314(c) (1-5), the Department of the Air Force (AF) announced the appointment of members to the AF's Senior Executive Service Pay Pool and Performance Review Board for 2012. The authorizing official approved the notice update on July 19, 2012 (77 FR 19265-19266), to replace a member of the Air Force 2012 Performance Review Board, Lt. Gen. Davis, Military Deputy, Office of the Assistant Secretary of the Air Force for Acquisitions with Lt Gen Basla, Chief, Information Dominance and Chief Information Officer, Office of the Secretary of the Air Force.

FOR FURTHER INFORMATION CONTACT: Please direct any written comments or requests for information to Ms. Erin Moore, Deputy Director, Senior Executive Management, AF/DPS, 1040 Air Force Pentagon, Washington, DC 20330-1040 (PH: 703-695-7677; or via email at erin.moore@pentagon.af.mil.)

Bao-Anh Trinh,
Air Force Federal Register Liaison Officer.

[FR Doc. 2012-19426 Filed 8-8-12; 8:45 am]

BILLING CODE 5001-10-P